DEPARTMENT OF COMMERCE

National Oceanic and Atmospheric Administration

50 CFR Parts 600 and 660

[Docket No. 011231309-2090-03; I.D.092602B]

Fisheries off West Coast States and in the Western Pacific; Pacific Coast Groundfish Fishery; Annual Specifications and Management Measures; Trip Limit Adjustments; Correction

AGENCY: National Marine Fisheries Service (NMFS), National Oceanic and Atmospheric Administration (NOAA), Commerce.

ACTION: Inseason trip limit adjustments and correction; request for comments.

SUMMARY: NMFS announces changes in the following trip limits for the Pacific Coast groundfish fisheries: limited entry groundfish trawl gear fisheries for minor slope rockfish, splitnose rockfish, DTS complex (Dover sole, thornyheads and sablefish), flatfish fisheries, widow rockfish, yellowtail rockfish, and the 'other fish' category; limited entry fixed gear fisheries for minor slope rockfish, splitnose rockfish, sablefish, minor nearshore rockfish, lingcod and the 'other fish' category; and open access fisheries for sablefish, minor nearshore rockfish, lingcod, and the 'other fish' category. Additionally, pink shrimp exempted trawl gear incidental groundfish landings limits are now listed in the open access trip limit table rather than just in the text at IV.C.(3) to ensure clarity. These actions, which are authorized by the Pacific Coast Groundfish Fishery Management Plan (FMP), will allow fisheries access to healthy groundfish stocks, prevent fisheries that are approaching their OY from exceeding their OY, and protect overfished and depleted stocks. With this inseason trip limit adjustment, NMFS also announces that the States of Washington and Oregon are implementing a declaration requirement for limited entry trawl vessels intending to fish with midwater trawl gear in the Darkblotched Rockfish Conservation Area (DBCA) north of 40°10′ N. lat. This document also contains a correction to the limited entry trawl gear trip limit for canary rockfish south of 40°10′ N. lat. to reflect the closure in the south that was effective July 1, 2002.

DATES: Effective 0001 hours local time October 1, 2002, until the 2003 annual specifications and management measures are effective, unless modified, superseded, or rescinded through a publication in the Federal Register.

ADDRESSES: Submit comments to D. Robert Lohn, Administrator, Northwest Region, NMFS, 7600 Sand Point Way NE, Seattle, WA 98115-0070; or Rod McInnis, Acting Administrator, Southwest Region, NMFS, 501 West Ocean Blvd, Suite 4200, Long Beach, CA 90802-4213.

FOR FURTHER INFORMATION CONTACT: Jamie Goen (Northwest Region, NMFS), phone: 206-526-6140; fax: 206-526-6736; and e-mail: jamie.goen@noaa.gov.

SUPPLEMENTARY INFORMATION:

Electronic Access

This Federal Register document is available on the Government Printing Office's website at: http://www.access.gpo.gov/su_docs/ca/docs/aces/aces140.html. Background information and documents are available at the NMFS Northwest Region website at: http://www.nwr.noaa.gov/1sustfsh/gdfsh01.htm and at the Pacific Fishery Management Council's website at: http://www.pcouncil.org.

Background

The Pacific Coast Groundfish FMP and its implementing regulations at 50 CFR part 660, subpart G, regulate fishing for over 80 species of groundfish off the coasts of Washington, Oregon, and California. Annual groundfish specifications and management measures are initially developed by the Pacific Fishery Management Council (Pacific Council), and are implemented by NMFS. The specifications and management measures for the current fishing year (January 1-December 31, 2002) were initially published in the Federal Register as an emergency rule for January 1-February 28, 2002 (67 FR 1540, January 11, 2002), as a proposed rule for all of 2002 (67 FR 1555, January 11, 2002), and as a final rule effective March 1, 2002 (67 FR 10490, March 7, 2002). The final rule was subsequently amended at 67 FR 15338, April 1, 2002, at 67 FR 18117, April 15, 2002, at 67 FR 30604, May 7, 2002, at 67 FR 40870, June 14, 2002, at 67 FR 44778, July 5, 2002, at 67 FR 48571, July 25, 2002, at 67 FR 50835, August 6, 2002, at 67 FR 55166, August 28, 2002, at 67 FR 56497, September 4, 2002, and at 67 FR 57973, September 13, 2002.

The following changes to current groundfish management measures were recommended by the Pacific Council, in consultation with Pacific Coast Treaty Tribes and the States of Washington, Oregon, and California, at its September 9-13, 2002, meeting in Portland, OR. Pacific Coast groundfish landings will be monitored throughout the year, and further adjustments will be made as necessary to allow achievement of or to avoid exceeding the 2002 OYs and allocations.

Depth-based Management

Beginning with the July 1, 2002, inseason action (67 FR 44778, July 5, 2002) the Pacific Council reinstated a management line at the 20-fm (37-m) depth contour south of 40° 0′ N. lat. The 20-fm (37-m) depth contour was used to implement management measures to protect bocaccio rockfish, an overfished species. Through an emergency rule (67 FR 57973, September 13, 2002) effective September 10, 2002, new depth-based management measures affecting the limited entry trawl fleet north of 40°10′ N. lat. were implemented to allow harvest of healthy groundfish stocks while protecting darkblotched rockfish, another overfished species. The emergency rule created a “no-trawl” zone between approximately 100 to 250 fm (183 to 457 m) north of 40°10′ N. lat. to the U.S.-Canada border, known as the DBCA. This inseason action will open up limited midwater trawl opportunities for widow and yellowtail rockfish in the DBCA, subject to the trip limits described below and a declaration process adopted by the States of Washington and Oregon.

Operating in Areas with Different Trip Limits

When operating in areas with different trip limits north and south of a management line, the crossover provisions listed at paragraph IV.A.(12) in the 2002 annual specifications and management measures (67 FR 10490, March 7, 2002) apply. For the limited entry trawl flatfish fisheries north and south of the management line at 40°10′ N. lat., vessels are subject to the crossover provisions in paragraph IV.A.(12) when making landings that include any of the flatfish species specified at 50 CFR 660.302 in the flatfish fisheries.

Sablefish 20-Inch Minimum Size Limit for Limited Entry Fixed Gear and Open Access Between 40°10′ N. lat. and 36° N. lat. and for Limited Entry Trawl South of 40°10′ N. lat.

At the Pacific Council's September meeting, public testimony reported a significant amount of adult sablefish discard in waters deeper than the bocaccio depth range with the 22-inch (56 cm) minimum sablefish size restriction that was imposed on July 1, 2002 (67 FR 44778, July 5, 2002 and subsequently amended at 67 FR 50835, August 6, 2002). Therefore, the Pacific Council recommended reducing the sablefish minimum size limit from 22 inches to 20 inches (56 cm-51 cm), beginning October 1, 2002, for limited entry fixed gear and open access vessels between 40°10′ N. lat. and 36° N. lat. and for limited entry trawl vessel south of 40°10′ N. lat. This reduction in the minimum sablefish size limit is intended to reduce the discard of smaller, mature sablefish while protecting bocaccio, an overfished species, by pushing fishing effort for sablefish into deeper waters.

North of 40°10′ N. lat., there continues to be no sablefish size limit because bocaccio do not generally occur north of 40°10′ N. lat. and the adult sablefish in that area tend to be larger. To the south of this area (i.e., south of 36° N. lat.), there continues to be no sablefish size limit for limited entry fixed gear or open access vessels because the adult sablefish, although small, generally occur outside of the bocaccio depth range. The 20-inch (51-cm) minimum sablefish size limit for the limited entry trawl gear sablefish sublimit will continue to extend south from 40°10′ N. lat. to the Mexico border.

The “Other Fish” Category for All Gears Coastwide

“Other fish” are defined at 50 CFR 660.302 under the term groundfish, as those groundfish species or species groups for which there is no trip limit, size limit, quota, or harvest guideline. With this inseason action, the “other fish” category is added to the limited entry fixed gear and open access trip limit tables, in addition to the limited entry trawl table. For all gears north of 40°10′ N. lat., “other fish” are not limited, except that spiny dogfish is prohibited for all gears other than small footrope trawl. The fixed gear spiny dogfish fishery in the north has a history of yelloweye rockfish bycatch, especially off Washington. In order to protect yelloweye rockfish, an overfished species, spiny dogfish retention is prohibited for all gears except small footrope trawl in the north. For all gears south of 40°10′ N. lat., retention of “other fish” is prohibited in order to prevent incidental catch of bocaccio with the exception that retention of grenadiers is permitted. Grenadiers are a deep water species and can be targeted without intercepting overfished or depleted rockfish stocks.

Limited Entry Trawl Gear Fisheries for Midwater Widow and Yellowtail Rockfish North of 40°10′ N. lat.

At their September meeting, the Pacific Council decided to allow midwater trawl fisheries for widow and yellowtail rockfish inside the DBCA. The widow and yellowtail rockfish midwater fisheries had previously been closed in the north because these species primarily occur within the DBCA, an area closed to protect darkblotched rockfish. While midwater trawls for these species within the DBCA would not intercept darkblotched rockfish, the midwater fisheries were closed because of the enforcement difficulty in determining whether a vessel is conducting a midwater or pelagic trawl versus a small footrope bottom trawl, which would intercept darkblotched rockfish and is prohibited.

In order to allow midwater trawl opportunity for widow and yellowtail rockfish, the States of Washington and Oregon will implement a declaration process whereby vessels intending to fish with midwater trawl gear within the DBCA would be required to contact the State in advance of such fishing trips as a condition of landing in State ports. Washington and Oregon will implement a limited declaration process for the November-December period, while California will maintain an on-the-water enforcement presence. For November-December, the States of Washington and Oregon will handle all midwater trawl declarations for fishing in the DBCA. Due to limited State personnel resources to handle the declaration process, the frequency of trips landing either widow or yellowtail rockfish is being restricted in Federal regulations to no more than two trips per vessel per 2-month cumulative period (i.e., November-December).

The available trip limit for this midwater trawl opportunity was constrained to the November-December cumulative trip limit period. Historically, incidental catch of canary rockfish, an overfished species, in the widow rockfish midwater trawl fishery has been lower in the January-February, March-April and November-December cumulative trip limit periods. Because canary rockfish is approaching its OY, the widow and yellowtail midwater fisheries were re-opened only for the November-December trip limit period when the interception of canary rockfish is likely to be low.

For the November-December period, the 2-month cumulative limit for the widow rockfish midwater trawl fishery occurring north of 40°10′ N. lat. will be re-opened at 13,000 lb (5,897 kg) per 2 months, restricted to no more than 2 trips landing widow rockfish per vessel per 2-month period. For yellowtail rockfish, the November-December 2-month cumulative limit for the yellowtail rockfish midwater trawl fishery occurring north of 40°10′ N. lat. will be re-opened at 20,000 lb (9,072 kg) per 2 months, restricted to no more than 2 trips landing yellowtail rockfish per vessel per 2-month period.

Limited Entry Trawl Gear Fisheries for the DTS Complex North of 40°10′ N. lat.

The DTS complex north of 40°10′ N. lat. was previously scheduled to decrease for the November-December cumulative limit period. In addition, the September emergency rule (67 FR 57973, September 13, 2002) had split the November-December cumulative limit period from a 2-month to a monthly cumulative limit to allow more flexibility for possible future inseason adjustments. However, in doing so, the flexibility of the fishermen to plan their trips is further constrained and the likelihood of regulatory discards may increase. Because sufficient OY remains and the incidence of overfished rockfish species interception in the DTS fisheries is lower during November-December, the Pacific Council decided to increase the cumulative trip limits for the DTS complex during the November-December cumulative limit period and re-instate the 2-month cumulative limit.

In order to allow fishermen access to the remaining DTS OYs while still protecting darkblotched rockfish in all northern waters and canary rockfish in waters shoreward of the 100-fm (184 m) depth contour line, the Pacific Council increased the OY for all DTS complex species, but increased the Dover sole limit disproportionately between large and small footrope trawl gear. Small footrope trawl gear was assigned a lower Dover sole trip limit, 12,000 lbs (5,443 kg) per 2 months, because small footrope is the only bottom trawl gear allowed in waters shoreward of the 100 fm (183 m)depth contour where there is higher incidence of rockfish bycatch, including canary and darkblotched rockfish. Small footrope gear is allowed in waters inside of 100 fm (183 m) because it tends to have less incidental catch of canary rockfish since it cannot effectively fish in rocky seafloor habitat where canary rockfish are typically found. Conversely, the higher limit for Dover sole caught with large footrope trawl gear, 22,000 lb (9,979 kg) per 2 months, is intended to encourage vessels to operate seaward of the 250 fm (461 m) depth contour, outside the range of darkblotched and canary rockfish.

For the November-December period, the 2-month cumulative limit for the DTS trawl fishery north of 40°10′ N. lat. will be increased as follows: Dover sole will be increased from 7,000 lb (3,175 kg) per month to 22,000 lb (9,979 kg) per 2 months providing that only large footrope or midwater trawl gear is used to land any groundfish species during the entire cumulative limit period or 12,000 lb (5,443 kg) per 2 months if small footrope gear is used to land any groundfish species during the entire cumulative limit period; shortspine thornyhead will be increased from 750 lb (340 kg) per month to 2,200 lb (998 kg) per 2 months; longspine thornyhead will be increased from 1,000 lb (454 kg) per month to 8,000 lb (3,629 kg) per 2 months; and sablefish will be increased from 1,250 lb (567 kg) per month to 2,600 lb (1,179 kg) per 2 months.

Limited Entry Trawl Gear Fisheries for Minor Slope Rockfish Coastwide and Splitnose Rockfish South of 36° N. lat.

As in the DTS fishery above, the September emergency rule had split the November-December cumulative limit period from a 2-month to a monthly cumulative limit to allow more flexibility for possible future inseason adjustments. However, in doing so, the flexibility of the fishermen to plan their trips is further constrained and the likelihood of regulatory discards may increase.

PacFIN landings estimates through September 7, 2002, report the limited entry slope rockfish catch in the north to be at 104 mt out of a 1,150 mt OY for 2002 (1,046 mt remaining) and at 275 mt out of a 497 mt OY (222 mt remaining) for the south. For splitnose rockfish in the Monterey and Conception management areas, PacFIN estimates report the limited entry and open access splitnose catch to be at 35 mt out of a 387 mt OY (352 mt remaining). Because sufficient OY remains and the incidence of overfished rockfish species interception is low, the Pacific Council decided to increase the cumulative trip limits for minor slope rockfish fisheries in the north during the November-December period and for the minor slope and splitnose rockfish fisheries south of 40°10′ N. lat. during the September-October and November-December cumulative limit periods, re-instating the 2-month cumulative limit.

For the September-October period, limited entry trawl fisheries for minor slope and splitnose rockfish south of 36° N. lat. will each be increased from 15,000 lb (6,804 kg) per 2 months to 25,000 lb (11,340 kg) per 2 months. For the November-December period, limited entry trawl fisheries for minor slope rockfish north of 36° N. lat. will be increased from 300 lb (136 kg) per month to 1,800 lb (816 kg) per 2 months; limited entry trawl fisheries for both minor slope and splitnose rockfish south of 36° N. lat. will be increased from 15,000 lb (6,804 kg) per 2 months to 40,000 lb (18,144 kg) per 2 months.

Limited Entry Trawl Gear Fisheries for Flatfish South of 40°10′ N. lat.

Previously, the Petrale sole trip limit south of 40°10′ N. lat. was included in the combined flatfish limit for rex sole, petrale sole, English sole, and arrowtooth flounder as an incidental catch allowance in the DTS fishery. South of 40°10′ N. lat., logbook and fish landing ticket data report that the limited entry trawl fishery for Petrale sole occurs primarily seaward of 180 fm (329 m) and has not shown any incidental catch of bocaccio. The overfished species bycatch for this fishery during November-December using a depth-based bycatch model projects that widow rockfish, lingcod, darkblotched rockfish may be intercepted in the Petrale sole fishery. However, incidental catch levels of these species are not projected to exceed their 2002 OYs. Therefore, Petrale sole was pulled out of the combined flatfish limit and given its own trip limit, 30,000 lb (13,608 kg) per 2 months, to provide targeted harvest opportunity on a healthy groundfish stock with minimal incidental catch of overfished rockfish species.

In addition, rex sole was pulled out of the combined flatfish limit and assigned a higher incidental catch allowance of 2,000 lb (907 kg) per trip. English sole and arrowtooth flounder retain a combined limit of 1,000 lb (454 kg) per trip as an incidental catch allowance in the DTS or petrale sole fisheries.

For the November-December period, limited entry trawl fisheries for flatfish south of 40°10′ N. lat. are closed with the following exceptions: petrale sole will have its own trip limit of 30,000 lb (13,608 kg) per 2 months, rex sole will have its own incidental catch allowance of 2,000 lb (907 kg) per trip, and English sole and arrowtooth flounder continue to have a combined incidental catch allowance of 1,000 lb (454 kg) per trip when landed with DTS or petrale sole. The amount of per-trip flatfish landings (rex sole, English sole, and arrowtooth flounder) must not exceed the amount of DTS and petrale sole landed. Landings may continue to be made with small or large footrope gear.

Limited Entry Fixed Gear Fisheries for Minor Slope Rockfish and Splitnose Rockfish South of 36° N. lat.

The limited entry fixed gear fisheries for minor slope and splitnose rockfish south of 36° N. lat. generally occur well outside of 250 fm (461 m). In addition to the fishery taking place in deeper waters beyond the range of bocaccio, the OY for limited entry slope rockfish in the south is estimated in PacFIN to be at 275 mt out of a 497 mt OY (222 mt remaining). For splitnose rockfish in the Monterey and Conception management areas, PacFIN estimates report the limited entry and open access splitnose catch to be at 35 mt out of a 387 mt OY (352 mt remaining). Because sufficient OY remains for both minor slope and splitnose rockfish and the likelihood of bocaccio interception in these fisheries during the remainder of 2002 is low, the cumulative limit for these fisheries will be increased.

For the September-October and November-December periods, the trip limits for both minor slope and splitnose rockfish will be increased south of 36° N. lat. from 15,000 lb (6,804 kg) per 2 months to 25,000 lb (11,340 kg) per 2 months.

Limited Entry Fixed Gear and Open Access Fisheries for Sablefish North of 36° N. lat.

PacFIN landings data estimates that the open access landings for sablefish in the north are at 1,032 mt out of a 1,780 mt OY for 2002 (748 mt remaining). Because sufficient OY remains for sablefish north of 36° N. lat., the limits in the sablefish daily trip limit fishery will be increased.

Beginning October 1, 2002, the limited entry fixed gear and open access daily trip limit fishery for sablefish north of 36° N. lat. will be increased from 300 lb (136 kg) per day, or 1 landing per week up to 800 lb (363 kg), not to exceed 2,400 lb (1,089 kg) per 2 months, to 300 lbs (136 kg) per day, or 1 landing per week up to 900 lb (408 kg), not to exceed 2,700 lb (1,225 kg) per 2 months.

Limited Entry Fixed Gear and Open Access Fisheries for Minor Nearshore Rockfish North of 40°10′ N. lat.

PacFIN's landed catch estimates show the limited entry and open access nearshore rockfish catch north of 40°10′ N. lat. to be at 186 mt out of a 324 mt OY for 2002 (138 mt remaining). Because sufficient OY remains for nearshore rockfish, beginning October 1, 2002, the limited entry fixed gear and open access fisheries for minor nearshore rockfish north of 40°10′ N. lat. will be increased from 6,000 lb (2,722 kg) per 2 months, no more than 3,000 lb (1,361 kg) of which may be species other than black and blue rockfish, to 7,000 lb (3,175 kg) per 2 months, no more than 3,000 lb (1,361 kg) of which may be species other than black and blue rockfish.

Limited Entry Fixed Gear and Open Access Fisheries for Lingcod South of 40°10′ N. lat.

Minor nearshore rockfish south of 40°10′ N. lat. are estimated to have exceeded the 2002 OY by 18 mt through September 7, 2002. Because nearshore rockfish and lingcod co-occur, the fishery for lingcod south of 40°10′ N. lat. will close one month earlier than previously scheduled to protect nearshore rockfish from continued overharvesting.

Previously, the limited entry fixed gear and open access fisheries for lingcod south of 40°10′ N. lat. were open only inside the 20 fm (37 m) contour with cumulative limits of 400 lb (181 kg) per month for limited entry fixed gear fisheries and 300 lb (136 kg) per month for open access fisheries. Beginning October 1, 2002, the limited entry fixed gear and open access fisheries south of 40°10′ N. lat. for lingcod will be closed.

Correction

The canary rockfish fishery was closed south of 40°10′ N. lat. with the July 1, 2002 trip limit adjustments (67 Fr 44778, July 5, 2002). The closure for the limited entry trawl fishery for canary rockfish starting October 1, 2002, was inadvertently removed during implementation of the September emergency rule (67 FR 56497, September 4, 2002). The limited entry trawl fishery for canary rockfish should be closed south of 40°10′ N. lat. for the remainder of 2002.

NMFS Actions

For the reasons stated herein, NMFS concurred with the Pacific Council's recommendations and hereby announces the following changes to the 2002 specifications and management measures (67 FR 10490, March 7, 2002, as amended at 67 FR 15338, April 1, 2002, 67 FR 18117, April 15, 2002, 67 FR 30604, May 1, 2002, 67 FR 40870, June 14, 2002, 67 FR 44778, July 5, 2002, 67 FR 48571, July 25, 2002, 67 FR 50835, August 6, 2002, 67 FR 55166, August 28, 2002, 67 FR 56497, September 4, 2002, and 67 FR 57973, September 13, 2002) to read as follows:

1. On page 10511, in column 1, section IV., under A. General Definitions and Provisions, paragraph (6)(d) is revised to read as follows:

* * * * *

(d) Sablefish size and weight limit conversions. The following conversions apply to both the limited entry and open access fisheries when size and trip limits are effective for those fisheries. For headed and gutted (eviscerated) sablefish:

(i) The minimum size limit for headed sablefish, which corresponds to 20 inches (51 cm) TL for whole fish, is 14 inches (36 cm).

(ii) The conversion factor established by the State where the fish is or will be landed will be used to convert the processed weight to round weight for purposes of applying the trip limit. (The conversion factor currently is 1.6 in Washington, Oregon, and California. However, the State conversion factors may differ: fisher should contact fishery enforcement officials in the State where the fish will be landed to determine that State's official conversion factor.)

* * * * *

2. On page 10512, in section IV., under A. General Definitions and Provisions, paragraph (12)(e) is added to read as follows:

(12) * * *

(e) Flatfish Fisheries. There are differential trip limits for the flat 40°10′ N. lat. Vessels operating in the limited entry trawl fishery are subject to the crossover provisions in this paragraph IV.A.(12) when making landings that include any of the flatfish species specified at 50 CFR 660.302 in the flatfish fisheries.

* * * * *

3. On page 57976, in 67 FR 57976, September 13, 2002, in the third column, language is added to the last sentence in the last paragraph in IV. A.(22), such that the last sentence should read as follows:

“These restrictions do not apply to Pacific whiting vessels using mid-water trawl gear to fish for their sector's primary whiting season allocation, as defined at § 660.323(a)(3), or to vessels fishing for widow or yellowtail rockfish using mid-water trawl gear.”

* * * * *

4. On pages 10517 and 10518, in section IV., under B. Limited Entry Fishery, at the end of paragraph (1), Tables 3 and 4 are revised to read as follows:

IV. NMFS Actions

B. Limited Entry Fishery

(1) * * *

BILLING CODE 3510-22-S

5. On page 10520, in section IV., under C. Trip Limits in the Open Access Fishery, at the end of paragraph (1), Table 5 is revised to read as follows:

IV. NMFS Actions

C. Trip Limits in the Open Access Fishery

(1) * * *

BILLING CODE 3510-22-C

* * * * *

Classification

These actions are authorized by the Pacific Coast groundfish FMP and its implementing regulations, and are based on the most recent data available. The aggregate data upon which these actions are based are available for public inspection at the Office of the Administrator, Northwest Region, NMFS, (see ADDRESSES) during business hours.

The Assistant Administrator for Fisheries, NMFS, finds good cause to waive the requirement to provide prior notice and opportunity for public comment on this action pursuant to 5 U.S.C. 553(b)(B), because providing prior notice and opportunity for comment would be impracticable. It would be impracticable because the trip limit adjustments for most species or species groups are scheduled to begin October 1, 2002, and affording prior notice and opportunity for public comment would impede the agency's function of managing fisheries to approach without exceeding the OY for federally managed species. Delaying implementation of these trip limit adjustments past October 1, 2002, may cause unnecessary hardship among the West coast groundfish fleets. In 2002, the West coast groundfish fleet has suffered severe cutbacks in seasons, areas, and species available to be fished in an effort by the Pacific Council to primarily protect darkblotched and bocaccio rockfish, both overfished species. Most of the trip limit adjustments in this document are increases from the status quo. Increases to trip limits for healthy stocks must be implemented in a timely manner to alleviate some of the economic and social burden fishermen and fishing communities have to bear to protect overfished and depleted groundfish species. Delaying implementation of these trip limit adjustments would restrict fishermen to the reduced trip limits put in place by both the July inseason trip limits and the September emergency rule that were previously scheduled for the September-October and November-December cumulative period. In addition, some changes are closures in order to prevent incidental catch of overfished species. Delaying implementation of these closures would allow fishermen to continue harvesting certain species and may cause the fisheries to exceed the OYs for overfished rockfish species.

The AA also finds good cause to waive the requirement to provide prior notice and opportunity for public comment on the correction and re-classification of certain species (i.e., Petrale sole and rex sole within flatfish) as such prior notice and opportunity for public comment is unnecessary. It is unnecessary because these are minor technical amendments upon which the public most likely has little interest in commenting. For the above reasons, good cause also exists to waive the 30-day delay in effectiveness requirement of 5 U.S.C. 553 (d)(3).

The declaration process mentioned in this inseason action, if implemented, will be a requirement of the States of Washington and Oregon. The State declaration process therefore would not be subject to Federal Paperwork Reduction Act requirements.

These actions are taken under the authority of 50 CFR 660.323(b)(1) and are exempt from review under Executive Order 12866.

Authority: 16 U.S.C. 1801 et. seq.

Dated: October 1, 2002.
Virginia M. Fay,
Acting Director, Office of Sustainable Fisheries, National Marine Fisheries Service.

[FR Doc. 02-25308 Filed 10-1-02; 2:49 pm]

BILLING CODE 3510-22-S